DEPARTMENT OF TRANSPORTATION

Federal Aviation Administration

Fifth Meeting: RTCA, Next Gen Advisory Committee

AGENCY: Federal Aviation Administration (FAA), U.S. Department of Transportation (DOT).

ACTION: Notice of RTCA, NextGen Advisory Committee.

SUMMARY: The FAA is issuing this notice to advise the public of the fifth meeting of RTCA, NextGen Advisory Committee.

DATES: The meeting will be held February 3, 2012, from 9:30 a.m.-3:30 p.m.

ADDRESSES: The meeting will be held at Embry-Riddle Aeronautical University, Florida NextGen Test Bed, 557 Innovation Way, Daytona Beach, FL 32114.

FOR FURTHER INFORMATION CONTACT: The RTCA Secretariat, 1150 18th Street NW., Suite 910, Washington, DC 20036: or by telephone at (202) 833-9339, fax at (202) 833-9434, or Web site at http://www.rtca.org.

SUPPLEMENTARY INFORMATION: Pursuant to section 10(a)(2) of the Federal Advisory Committee Act (Pub. L. 92-463, 5 U.S.C. App.), notice is hereby given for a NextGen Advisory Committee meeting. The agenda will include the following:

February 3, 2012

• Welcome and Introductions—Chairman Dave Barger, President and CEO, JetBlue Airways

• Official Statement of Designated Federal Official, Michael Huerta, FAA Administrator (Acting)

• Review and approval of September 29, 2011 meeting summary/NACSC TORs Revisions

• Chairman's Report—Chairman Barger

• Subcommittee Report: NAC Subcommittee & Work Groups—Subcommittee Co-Chairs—Steve Brown, Senior Vice President, Operations and Administration, National Business Aviation Association/Tom Hendricks, Senior Vice President, Safety, Security and Operations, Air Transport Association

• Break

• Review and Approve Recommendation for Submission to FAA

• Applying the Metroplex Prioritization Criteria and Mapping the Integrated Capabilities to Identified Metroplexes—a recommendation derived from a mapping of integrated capabilities to seven Metroplexes. This mapping enables an assessment of the benefits and feasibility of these site specific capabilities.

• Lunch Break

• Review and Approve Recommendations for Submission to FAA

• DataComm Roadmap—a roadmap for Tower and domestic En Route DataComm services and associated technologies

• Afternoon Break

• Review and Approve Recommendations for Submission to FAA

• Executive Level NextGen Implementation Metrics—an executive-level set of metrics that capture an overall status of NextGen implementation

• Other Business/Anticipated Issues for NAC Consideration and Action at the next Meeting on May 24, 2012 in Seattle, Washington

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 5, 2012.
John Raper,
Manager, Business Operations Branch, Federal Aviation Administration.

[FR Doc. 2012-540 Filed 1-13-12; 8:45 am]

BILLING CODE 4910-13-P